DEPARTMENT OF DEFENSE

Office of the Secretary

[Docket ID: DOD-2025-OS-0476]

Proposed Collection; Comment Request

AGENCY: Office of the Under Secretary of Defense for Personnel and Readiness (OUSD (P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 17, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of Under Secretary of Defense (Personnel and Readiness), Attn: Office of Legal Policy, 4000 Defense Pentagon, Washington, DC 20301-4000, Terri Saunders, 703-695-3817.

SUPPLEMENTARY INFORMATION:

Title; Associated Form; and OMB Number: Application for the Review of Discharge from the Armed Forces of the United States; DD Form 293; OMB Control Number 0704-0004.

Needs and Uses: Under Title 10 United States Code § 1553 and DoD Directive 1332.41, “Boards for the Correction of Military Records and Discharge Review Board (DRBs),” former service members who received an administrative discharge have the right to appeal the characterization or reason for separation provided they do so within 15 years from the date of separation. The DD Form 293, “Application for Review of Discharge or Separation from the Armed Forces of the United States,” is the form that allows former Service members to explain the reasons for the alleged inequity or impropriety, designate counsel of choice, and select the method of hearing desired.

The request is initiated by the respondent; therefore, there is no preemptory request or invitation sent to the Respondent associated with the information collection. The completed DD Form 293 is filed either online through email, through a secure portal, or submitted via mail by the Respondent. The form is formatted in both electronic and paper format with text or hand-written fillable entries. The information collected is needed to provide the DRBs the basic data to process and act on the respondent's request.

Affected Public: Individuals or households.

Annual Burden Hours: 2,418.

Number of Respondents: 4,835.

Responses per Respondent: 1.

Annual Responses: 4,835.

Average Burden per Response: 30 minutes.

Frequency: On occasion.

Dated: August 13, 2025.
Aaron T. Siegel,
Alternate OSD Federal Register Liaison Officer, Department of Defense.

[FR Doc. 2025-15632 Filed 8-15-25; 8:45 am]

BILLING CODE 6001-FR-P